FEDERAL MARITIME COMMISSION

[Docket No. 25-08]

FormuKleen, Inc., Complainant v. Top Shipping Systems, Corp., Respondent

Served: June 17, 2025.

Notice of Filing of Complaint and Assignment

Notice is given that a complaint has been filed with the Federal Maritime Commission (the “Commission”) by FormuKleen, Inc. (the “Complainant”) against Top Shipping Systems, Corp. (the “Respondent”). Complainant states that the Commission has subject-matter jurisdiction over the complaint pursuant to the Shipping Act of 1984, as amended, 46 U.S.C. 40101 et seq., and personal jurisdiction over Respondent as a non-vessel-operating common carrier and ocean freight forwarder, as defined in 46 U.S.C. 40102 (17) and (19), and as a person involved in the oceanborne foreign commerce of the United States under 46 U.S.C. subtitle IV.

Complainant is a shipper with a principal place of business in Boca Raton, Florida.

Complainant identifies Respondent as a corporation with its principal place of business in Miami, Florida.

Complainant alleges that Respondent violated 46 U.S.C. 41102(c) and (d)(2)(B); 41104(a)(4)(E) and (a)(10); and 46 CFR 515.32. Complainant alleges these violations arose from the diversion of containers to the Respondent's facility and subsequent retention of those containers until unrelated charges were paid, and other acts or omissions by Respondent.

An answer to the complaint must be filed with the Commission within 25 days after the date of service.

The full text of the complaint can be found in the Commission's electronic Reading Room at https://www2.fmc.gov/readingroom/proceeding/25-08/. This proceeding has been assigned to the Office of Administrative Law Judges. The initial decision of the presiding judge shall be issued by June 17, 2026, and the final decision of the Commission shall be issued by December 31, 2026.

David Eng,
Secretary.

[FR Doc. 2025-11370 Filed 6-18-25; 8:45 am]

BILLING CODE P